DEPARTMENT OF COMMERCE

National Oceanic and Atmospheric Administration

[RTID 0648-XA542]

South Atlantic Fishery Management Council; Public Meetings

AGENCY: National Marine Fisheries Service (NMFS), National Oceanic and Atmospheric Administration (NOAA), Commerce.

ACTION: Notice of a public meeting.

SUMMARY: The South Atlantic Fishery Management Council (Council) will hold a meeting of its Dolphin Wahoo Advisory Panel (AP) on October 28, 2020.

DATES: The meeting will be held via webinar on October 28, 2020, from 8:30 a.m. until 5 p.m.

ADDRESSES:

Council address: South Atlantic Fishery Management Council, 4055 Faber Place Drive, Suite 201, N Charleston, SC 29405.

Meeting address: The meeting will be held via webinar. The webinar is open to members of the public. Registration is required. Webinar registration, an online public comment form, and briefing book materials will be available two weeks prior to the meeting at: http://safmc.net/safmc-meetings/current-advisory-panel-meetings/.

FOR FURTHER INFORMATION CONTACT: Kim Iverson, Public Information Officer, SAFMC; phone: (843) 571-4366 or toll free: (866) SAFMC-10; fax: (843) 769-4520; email: kim.iverson@safmc.net.

SUPPLEMENTARY INFORMATION: The Dolphin Wahoo AP will meet via webinar. Agenda items for the AP meeting include: Review of recent and developing Council actions, review of Amendment 10 to the Dolphin Wahoo Fishery Management Plan addressing annual catch limits, accountability measures, allocations, and other management parameters for Dolphin and Wahoo, development of a fishery performance report for Wahoo, an update on Dolphin Wahoo Participatory Workshops being conducted by the NOAA Fisheries Southeast Fisheries Science Center, discussion of the economic effects of COVID-19, feedback on climate change and regional management, an update on the South Atlantic Fishery Management Council's Citizen Science Program, and other business. The AP members will discuss these issues and provide recommendations for Council consideration as appropriate.

Special Accommodations

The meeting is physically accessible to people with disabilities. Requests for auxiliary aids should be directed to the Council office (see ADDRESSES) 5 days prior to the meeting.

Note: The times and sequence specified in this agenda are subject to change.

Authority: 16 U.S.C. 1801 et seq.

Dated: October 7, 2020.
Tracey L. Thompson,
Acting Deputy Director, Office of Sustainable Fisheries, National Marine Fisheries Service.

[FR Doc. 2020-22554 Filed 10-9-20; 8:45 am]

BILLING CODE 3510-22-P